FEDERAL COMMUNICATIONS COMMISSION

Notice of Public Information Collection(s) Being Submitted to OMB for Review and Approval

January 24, 2002.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 18, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0496.

Title: The ARMIS Operating Data Report.

Form Number: FCC Report 43-08.

Type of Review: Extension of a currently approved collection.

Respondents: Business or other for-profit entities.

Number of Respondents: 50.

Estimated Time per Response: 160 hours.

Frequency of Response: Recordkeeping; Annual reporting requirements.

Total Annual Burden: 8,000 hours.

Total Annual Costs: None.

Needs and Uses: Section 220 of the Communications Act of 1934, as amended, 47 U.S.C. 220, (the “Act”), allows the FCC, at its discretion, to prescribe the forms of any and all accounts, records, and memoranda to be kept by carriers subject to this Act, including the accounts, records, memoranda of the movement of traffic, and the receipts and expenditures of monies. The FCC may, under 47 section 219(b) of the Act, require carriers to file annual reports concerning any matters with respect to which the Commission is authorized or required by law to act. 47 CFR section 43.21 of the Commission's rules detail that requirement. ARMIS facilitates the timely and efficient analysis of revenue requirements, rates of return, and price caps; provides an improved basis for audits and other oversight functions; and enhances the FCC's ability to quantify the effects of alternative policies. The ARMIS 43-08 Report collects network operating data in a consistent, detailed format; monitors network growth, usage, and reliability; and thus enables the FCC to fulfill its regulatory responsibilities.

OMB Control Number: 3060-0763.

Title: The ARMIS Customer Satisfaction Report.

Form Number: FCC Report 43-06.

Type of Review: Extension of a currently approved collection.

Respondents: Business or other for-profit entities.

Number of Respondents: 8.

Estimated Time per Response: 720 hours.

Frequency of Response: Annual reporting requirements.

Total Annual Burden: 5,760 hours.

Total Annual Costs: None.

Needs and Uses: Section 220 of the Communications Act of 1934, as amended, 47 U.S.C. 220, allows the FCC, at its discretion, to prescribe the forms of any and all accounts, records, and memoranda to be kept by carriers subject to this Act, including the accounts, records, and memoranda of the movement of traffic, and the receipts and expenditures of monies. 47 U.S.C. 219(b) of the Act authorizes the FCC to require carriers subject to this Act to file annual reports concerning any matters with respect to which the FCC is authorized or required by law to act. 47 CFR section 43.21 of the Commission's rules detail that requirement. ARMIS facilitates the timely and efficient analysis of revenue requirements, rates of return, and price caps; provides an improved basis for audits and other oversight functions; and enhances the FCC's ability to quantify the effects of alternative policies. The Customer Satisfaction Report is compiled from surveys conducted by individual carriers on their customers. The ARMIS 43-06 Report enables the Commission to fulfill its regulatory responsibilities.

OMB Control Number: 3060-0800.

Title: FCC Wireless Telecommunications Bureau Application for Assignment of Authorization and Transfers of Control.

Form Number: FCC 603.

Type of Review: Revision of a currently approved collection.

Respondents: Business or other for-profit entities; Not-for-profit institutions; Individuals or households; and State, local, or tribal government.

Number of Respondents: 32,151.

Estimated Time per Response: 0.5 to 1.75 hours.

Frequency of Response: On occasion reporting requirements.

Total Annual Burden: 36,171 hours.

Total Annual Costs: $7,073,395.

Needs and Uses: Applicants and/or licensees in the Public Mobile Services, Personal Communication Services, Private Land Mobile Services, Broadcast Auxiliary Services, Fixed Microwave Services, Maritime Services (excluding ships), and Aviation Services (excluding aircraft) use FCC Form 603 to apply for approval of assignment or transfer of control of licenses in the Wireless Radio Services. Various technical schedules are required with Form 603 when applying for Auctioned Services, Partitioning and Disaggregation, Undefined Geographical Area Partitioning, and Notification of Consummation or Request for Extension of Time for Consummation. The FCC uses this form to obtain information necessary to identify the parties to a proposed assignment or transfer, to establish the parties' basic eligibility and qualifications, to classify the filing, and to determine the nature of the proposed service. This form is also used to notify the Commission of consummated assignments and transfers of wireless licenses to which the Commission has previously consented but for which notification but not prior consent is required. Form 603 will replace FCC Forms 490, 702, 703, 704, and 1046, which, following an initial transition period, will become obsolete.

Federal Communications Commission.
William F. Caton,
Deputy Secretary.

[FR Doc. 02-3695 Filed 2-14-02; 8:45 am]

BILLING CODE 6712-01-P